DEPARTMENT OF COMMERCE

International Trade Administration

[A-357-810]

Notice of Implementation Under Section 129 of the Uruguay Round Agreements Act; Antidumping Measures Concerning Oil Country Tubular Goods from Argentina

AGENCY: Import Administration, International Trade Administration, Department of Commerce.

DATES: Effective Date: March 16, 2006.

FOR FURTHER INFORMATION CONTACT: Fred Baker or Robert James, AD/CVD Operations, Office 7, Import Administration, International Trade Administration, U.S. Department of Commerce, 14th Street and Constitution Avenue, NW., Washington, DC 20230; telephone (202) 482-2924 (Baker), (202) 482-0649 (James).

SUPPLEMENTARY INFORMATION:

Background

In November 2000, the Department of Commerce (“Department”) published its final results of the expedited sunset review on the antidumping duty order on Oil Country Tubular Goods (“OCTG”) from Argentina and other countries. See Final Results of Expedited Sunset Reviews: Oil Country Tubular Goods from Argentina, Italy, Japan, and Korea, 65 FR 66701 (Nov. 7, 2000) (“Final Results”). The Government of Argentina subsequently requested dispute resolution at the World Trade Organization (“WTO”) to consider, inter alia, its claims that the Final Results were inconsistent with the WTO Agreement on Implementation of Article VI of the General Agreement on Tariffs and Trade 1994 (“AD Agreement”). In its final report, the panel found, inter alia, that the Department's original determination of dumping could not, by itself, represent a sufficient factual basis for concluding that dumping continued during the life of the order. Panel Report, United States—Sunset Review of Antidumping Measures on Oil Country Tubular Goods From Argentina, WT/DS268/R (issued July 16, 2004). The Panel also concluded that application of the “deemed waiver” provisions of the Department's regulations to Argentine exporters other than Siderca “invalidated” the Department's order-wide likelihood determination. Id. The United States did not appeal the Panel's finding concerning whether an original determination of dumping or continued collection of antidumping duties provided an adequate factual basis for finding likelihood, but did appeal the Panel's conclusions concerning the waiver provisions. The Appellate Body affirmed the Panel's conclusions concerning the waiver provisions and the Panel and Appellate Body reports were adopted on December 17, 2006. See id.; and Appellate Body Report, United States—Sunset Review of Antidumping Measures on Oil Country Tubular Goods From Argentina, WT/DS268/AB/R (issued Nov. 29, 2004).

Section 123 of the Uruguay Round Agreements Act (“URAA”) governs the process for changes to the Department's regulations where a dispute settlement panel and/or the Appellate Body finds a regulatory provision to be inconsistent with any of the WTO agreements. Consistent with section 123(g)(1) of the URAA, on October 28, 2005, the Department published amendments to its regulations related to sunset reviews to conform the existing regulations tot he United States' obligations under Articles 6.1, 6.2, and 11.3 of the Antidumping Agreement. See Final Rule; Procedures for Conducting Five-Year (“Sunset”) Reviews of Antidumping and Countervailing Duty Orders, 70 FR 62061 (Oct. 28, 2005). That final rule, which was effective on October 31, 2005, amended the “waiver” provisions of the regulations governing treatment of interested parties who do not provide a complete substantive response to the Department's notice of initiation of a sunset review and clarifies the basis for parties' participation in a public hearing in an expedited sunset review.

After following the preliminary procedures required under section 129 of the URAA, by letter dated October 31, 2005, the United States Trade Representative (“USTR”) requested that the Department issue a determination under section 129(b) of the URAA that would render the Department's action in the sunset review not inconsistent with the recommendations and findings of the DSB. On December 16, 2005, the Department issued such a determination, and continued to determine that revocation of the order would be likely to lead to continuation or recurrence of dumping. See Decision Memorandum, “Section 129 Determination: Final Results of Sunset Review, Oil Country Tubular Goods from Argentina,” (Dec. 16, 2005).

Pursuant to section 129(b)(3) of the URAA, and following consultations with the Department and congressional committees, on March 16, 2006, USTR directed the Department to implement the Section 129 determination under section 129(b)(4) of the URAA.

Implementation

Accordingly, the Department is publishing this notice of its revised final results of sunset review with respect to OCTG from Argentina. Consistent with the recommendations and findings of the DSB, the revised final results reflect the Department's analysis of whether revocation of the order would be likely to lead to continuation or recurrence of dumping. A copy of the Decision Memorandum detailing the Section 129 determination is available online at http://ia.ita.doc.gov, and is also available in the Central Records Unit in room B-099 of the main Department building.

This notice of implementation is issued and published in accordance with section 129(c)(2)(A) of the URAA.

Dated: April 13, 2006.
David M. Spooner,
Assistant Secretary for Import Administration.

[FR Doc. 06-3742 Filed 4-17-06; 8:45 am]

BILLING CODE 3510-DS-M